DEPARTMENT OF TRANSPORTATION

Surface Transportation Board

[Docket No. FD 35095]

Alaska Railroad Corporation—Construction and Operation Exemption—A Rail Line Extension to Port MacKenzie, AK

AGENCY: Surface Transportation Board, DOT.

ACTION: Notice of construction and operation exemption.

SUMMARY: The Board is granting an exemption under 49 U.S.C. 10502 from the prior approval requirements of 49 U.S.C. 10901 for Alaska Railroad Corporation (ARRC) to construct and operate an approximately 35-mile rail line connecting the Port MacKenzie District in south-central Alaska to a point on ARRC's existing main line near Houston, Alaska. The rail line would provide freight services between Port MacKenzie and the interior of Alaska and would support Port MacKenzie's continuing development as an intermodal and bulk material resources export and import facility. This exemption is subject to environmental mitigation conditions and the condition that ARRC build the route designated as environmentally preferable.

DATES: The exemption will be effective on December 21, 2011; petitions for reconsideration must be filed by December 12, 2011.

ADDRESSES: An original and 10 copies of all pleadings, referring to Docket No. FD 35095, must be filed with the Surface Transportation Board, 395 E Street SW., Washington, DC 20423-0001. In addition, 1 copy of each filing in this proceeding must be served on petitioner's representative: Kathryn Kusske Floyd, Dorsey & Whitney LLP, 1801 K Street NW., Suite 750, Washington, DC 20006.

FOR FURTHER INFORMATION CONTACT: Julia Farr, (202) 245-0359.

Assistance for the hearing impaired is available through the Federal Information Relay Service (FIRS) at: 1-(800) 877-8339.

Copies of written comments will be available for viewing and self-copying at the Board's Public Docket Room, Room 131, and will be posted to the Board's Web site.

SUPPLEMENTARY INFORMATION: Additional information is contained in the Board's decision, which is available on our Web site at http://www.stb.dot.gov.

By the Board, Chairman Elliott, Vice Chairman Begeman, and Commissioner Mulvey. Commissioner Mulvey dissented with a separate expression.
Decided: November 17, 2011.
Jeffrey Herzig,
Clearance Clerk.

[FR Doc. 2011-30346 Filed 11-23-11; 8:45 am]

BILLING CODE 4915-01-P